NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203

Dates & Times: November 5, 2008; 6 p.m.-9 p.m., November 6, 2008; 8 a.m.-6:30 p.m., November 7, 2008; 8 a.m.-3 p.m.

Place: Tuskegee University, Tuskegee, Alabama.

Type of Meeting: Part-Open.

Contact Person: Dr. Rama Bansil, Program Director, Materials Research Science and Engineering Centers Program, Division of Materials Research, Room 1065, National Science Foundation, 4201 Wilson Boulevard, Arlington, VA 22230, Telephone (703) 292-8562.

Purpose of Meeting: To provide advice and recommendations concerning further support of the Partnerships for Research and Education in Materials (PREM).

Agenda

Wednesday, November 5, 2008

6 p.m.-9 p.m. Executive Session and Dinner for Site Visit Team (Closed).

Thursday, November 6, 2008

8-8:30 Breakfast with PREM Director, co-PIs and faculty (Closed).

8:30-4:30 Presentations by PREM Director, co-PIs, Institutional Representatives and program participants (Open) .

4:30-6:30 Executive Session for Site Visit Team (Closed).

Friday, November 7, 2008

8 a.m.-3 p.m. Executive Session and Director's Response to Feedback, Debriefing with PREM Director and co-PIs (Closed).

Reason for Closing: The work being reviewed may include information of a proprietary or confidential nature, including technical information; financial data, such as salaries and personal information concerning individuals associated with the proposals. These matters are exempt under 5 U.S.C. 552b(c), (4) and (6) of the Government in the Sunshine Act.

Dated: October 16, 2008.
Susanne Bolton,
Committee Management Officer.

[FR Doc. E8-24992 Filed 10-20-08; 8:45 am]

BILLING CODE 7555-01-P